FEDERAL COMMUNICATIONS COMMISSION

47 CFR Part 73

[MB Docket No. 14-156, RM-11725, DA 15-9]

Radio Broadcasting Services; Silverton, Texas

AGENCY: Federal Communications Commission.

ACTION: Final rule.

SUMMARY: At the request of Chris Samples Broadcasting, Inc., licensee of Station KXDJ(FM), Channel 252C2, Spearman, Texas, the Audio Division amends the FM Table of Allotments, by substituting Channel 221A for vacant Channel 252A at Silverton, Texas to accommodate the Application that requests to upgrade the facilities of Station KXDJ(FM) from Channel 252C2 to Channel 252C1 at Spearman, Texas. The channel substitution at Silverton, Texas would be in the public interest because it would accommodate the Application and eliminate the Station KICA-FM 73.215 short-spacing. A staff engineering analysis indicates that Channel 221A can be allotted to Silverton, Texas consistent with the minimum distance separation requirements of the Commission's Rules with a site restriction located 7.8 kilometers (4.9 miles) east of Silverton. The reference coordinates are 34-28-15 NL and 101-13-09 WL.

DATES: Effective February 23, 2015.

FOR FURTHER INFORMATION CONTACT: Rolanda F. Smith, Media Bureau, (202) 418-2700.

SUPPLEMENTARY INFORMATION: This is a synopsis of the Commission's Report and Order, MB Docket No. 14-156, adopted January 8, 2015, and released January 9, 2015. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing Channel 252A at Silverton; and by adding Channel 221A at Silverton.

[FR Doc. 2015-01023 Filed 1-21-15; 8:45 am]

BILLING CODE 6712-01-P